OFFICE OF PERSONNEL MANAGEMENT

SES Performance Review Board

AGENCY: Office of Personnel Management.

ACTION: Notice.

SUMMARY: Notice is hereby given of the appointment of members of the OPM Performance Review Board.

FOR FURTHER INFORMATION CONTACT: Janet Smith, Center for Human Capital Management Services, Office of Personnel Management, 1900 E Street, NW., Washington, DC 20415, (202) 606-4473.

SUPPLEMENTARY INFORMATION: Section 4314(c)(1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

Office of Personnel Management.
Michael W. Hager,
Acting Director.

The following have been designated as members of the Performance Review Board of the U.S. Office of Personnel Management:

Howard Weizmann, Deputy Director—Chair.

Patricia Hollis, Chief of Staff and Director of External Affairs.

Mark Reger, Chief Financial Officer.

Kay Ely, Associate Director, Human Resources Products and Services Division.

Nancy Kichak, Associate Director, Strategic Human Resources Policy Division.

Kevin Mahoney, Acting Associate Director, Human Capital Leadership and Merit System Accountability Division.

Kathy Dillaman, Associate Director, Federal Investigative Services Division.

Ronald Flom, Associate Director, Management Services Division and Chief Human Capital Officer.

John Maher, General Counsel.

Mark Reinhold, Deputy Associate Director for Human Capital Management Services—Executive Secretariat.

[FR Doc. E8-24952 Filed 10-20-08; 8:45 am]

BILLING CODE 6325-45-P